DEPARTMENT OF THE INTERIOR

Fish and Wildlife Service

Information Collection To Be Submitted to the Office of Management and Budget for Approval Under the Paperwork Reduction Act

AGENCY: Fish and Wildlife Service. Interior.

ACTION: Notice; request for comments.

SUMMARY: We will submit the collection of information listed below to OMB for approval under the provisions of the Paperwork Reduction Act. We have included a copy of the information collection requirement in this notice. If you wish to obtain copies of the proposed information collection requirement and explanatory material, contact the Service Information Collection Officer at the address listed below.

DATES: You must submit comments on or before January 7, 2001.

ADDRESSES: Send your comments on the requirement to the Information Collection Clearance Officer, U.S. Fish and Wildlife Service, Room 222 ARLSQ, 1849 C Street, NW, Washington, DC 20204.

FOR FURTHER INFORMATION CONTACT: To request a copy of the information collection request, explanatory information, contact Rebecca A. Mullin at (703) 358-2287 or electronically to mullin@fws.gov

SUPPLEMENTARY INFORMATION: The Office of Management and Budget (OMB) regulation at 5 CFR part 1320, which implements provisions of the Paperwork Reduction Act of 1995 (Public Law 104-13), require that interested members of the public and affected agencies have an opportunity to comment on information collection and recording keeping activities (see 5 CFR 1320.8(d). We plan to submit a request to OMB to renew approval of the collection of information for the Conservation Order for the Reduction of Mid Continent Light Goose populations. We are requesting a 3-year term of approval for this information collection activity.

Federal agencies may not conduct or sponsor, and a person is not required to respond to, a collection of information unless it displays a currently valid OMB control number.

The Mid-continent lesser snow goose and Ross' population has nearly quadrupled—goose populations are referred to as Mid-continent light geese (MCLG). Due to high population growth rates, a decline in adult mortality, and an increase in winter survival, MCLG are now seriously injurious to their habitat and habitat important to other migratory birds, which poses a serious threat to the short and long-term health and status of migratory bird populations. The U.S. Fish and Wildlife Service (Service or “we”) believes that MCG populations exceed long-term sustainable levels for their arctic and sub-arctic breeding habitats and the populations must be reduced. 50 CFR part 21 provides authority for the management of overabundant MCG populations. Lesser snow and Ross' geese that primarily migrate through North Dakota, South Dakota, Nebraska, Kansas, Iowa, and Missouri, and winter in Arkansas, Louisiana, Mississippi, and eastern, central, and southern Texas and other Gulf States are referred to as the Mid-continent population of light geese (M.P.). Lesser snow and Ross' geese that primarily migrate through Montana, Wyoming, and Colorado and winter in New Mexico, northwestern Texas, and Chihuahua, Mexico are referred to as Western Central Flyway population of light geese (WCFP). Ross' geese are often mistaken for lesser snow geese due to their similar appearance. Ross' geese occur in both M.P. and the WCFP and mix extensively with lesser snow geese on both the breeding and wintering grounds M.P. and WCFP lesser snow and Ross' geese are collectively referred to as Mid-continent light geese (MCLG) because they breed, migrate, and winter in the Mid-continent or central portions of Northern America primarily in the Central and Mississippi Flyways. They are referred to as “light” geese due to their light coloration as opposed to “dark” geese such as the white-fronted or Canada Geese. In addition, we are now adding all Atlantic Flyway states to the conservation order to control greater snow geese (GSG). Similar to MCLG populations, GSG populations have increased exponentially, causing many of the same negative impacts previously outlined.

This collection of information that is required of participating State agencies under the conservation order to control MCLG and GSG populations will be used by the Service to administer this program and, particularly, in monitoring the effectiveness of control strategies. The information requested will be required to participate, and to protect migratory birds. The criteria is a statement that indicates that the State will inform and brief all participants of the requirements of these regulations and conservation order conditions that apply to the implementation of MCLG and GSG control measures. Any participant must keep records of activities carried out under the authority of this conservation order, including the number of MCLG and GSG harvested, the method by which they were harvested, and the date on which they were harvested. The State must submit an annual report summarizing activities conducted, including the date, numbers of birds taken, and methods of take on or before August 1 of each year.

Frequency of Collection: Annually

Description of Respondents: States

Total Annual Burden Hours: (see below)

Type of Report | Number of Reports Annually | Avg. Time Required Per Report (minutes) | Burden Hours
General take or Removal | 24 | 360 | 720

We invite comments concerning this submission on (1) whether the collection of information is necessary for the proper performance of our migratory bird management functions, including whether the information will have practical utility; (2) The accuracy of our estimate of the burden of the collection of information; (3) Ways to enhance the quality, utility, and clarity of the information to be collected; and (4) Ways to minimize the burden of the collection of information on respondents. The information collections in this program are part of a system of record covered by the Privacy Act (5 U.S.C. 552 (a))

Dated: October 3, 2001.
Rebecca A. Mullin,
U.S. Fish and Wildlife Service Information Collection Officer.

[FR Doc. 01-25234 Filed 10-5-01; 8:45 am]

BILLING CODE 4310-55-P